DEPARTMENT OF ENERGY

Federal Energy Regulatory Commission

[Docket No. RP96-383-014]

Dominion Transmission, Inc.; Notice of Negotiated Rate

November 6, 2000.

Take notice that on October 31, 2000, Dominion Transmission, Inc. (DTI) tendered for filing the following tariff sheets for disclosure of a recently negotiated transaction with Central Hudson Enterprises Corporation, with an effective date of November 1, 2000, for the agreement:

Third Revised Sheet No. 1300

First Revised Sheet No. 1406

Original Sheet No. 1407

DTI states that the transaction includes a negotiated rate. Further, because the transaction includes a provision that may be a material deviation from the form of service agreement included in DTI's tariff, DTI has also filed the letter agreement between the parties.

DTI states that copies of the filing have been served on all parties on the official service list, DTI's customers, and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28930 Filed 11-9-00; 8:45 am]

BILLING CODE 6717-01-M